DEPARTMENT OF HEALTH AND HUMAN SERVICES

National Institutes of Health

National Institute of Neurological Disorders and Stroke; Amended Notice of Meeting

Notice is hereby given of a change in the meeting of the National Institute of Neurological Disorders and Stroke Special Emphasis Panel, July 18, 2002, 8 AM to July 18, 2002, 4 PM, Marriott Marina-San Diego, 333 West Harbor Drive, San Diego, CA 92101-7700, which was published in the Federal Register on July 1, 2002, 67 FR 02-16433.

The meeting will be held at the Wyndham San Diego at Emerald Plaza; 400 West Broadway, San Diego, California 92101. The meeting is closed to the public.

Dated: July 15, 2002.
LaVerne Y. Stringfield,
Director Office of Federal Advisory Committee Policy.

[FR Doc. 02-18507 Filed 7-22-02; 8:45 am]

BILLING CODE 4140-01-M